DEPARTMENT OF AGRICULTURE

National Institute of Food and Agriculture

Designation as a Non Land Grant College of Agriculture

AGENCY: National Institute of Food and Agriculture, USDA.

ACTION: Notice of revision to Non Land Grant College of Agriculture (NLGCA) definition and invitation to request NLGCA designation.

SUMMARY: Section 7102 of the Agriculture Act of 2018 revises the definition of a Non Land Grant College of Agriculture and requires the National Institute of Food and Agriculture (NIFA) ensure compliance with the revised definition by proposing revocation of Non Land Grant designations where prior designees do not comply with the new NLGCA definition. All institutions certified prior to December 21, 2018 must reapply for certification and meet the new criteria for NLGCA certification. NLGCA designation satisfies the eligibility requirement for the Capacity Building Grants for Non-Land Grant Colleges of Agriculture program.

DATES: NIFA has updated its process for designating NLGCA and is inviting new requests for NLGCA designation effective immediately upon publication in the Federal Register.

FOR FURTHER INFORMATION CONTACT: Joanna Moore, Policy Specialist, jmoore@nifa.usda.gov, 202-690-6011.

SUPPLEMENTARY INFORMATION: Section 7102 of the 2018 Agriculture Improvement Act:

(1) Amended the definition of “NLGCA Institution” and “non-land-grant College of agriculture”. In order for an institution to qualify as a NLGCA, it must be a public college or university offering a baccalaureate or higher degree in the study of agricultural sciences, forestry, or both, which is any of the 32 specified areas of study: Agricultural and domestic animal services; Agricultural and extension education services; Agricultural and food products processing; Agricultural business and management; Agricultural communication or agricultural journalism; Agricultural economics; Agricultural engineering; Agricultural mechanization; Agricultural production operations; Agricultural public services; Agriculture; Animal sciences; Applied horticulture or horticulture operations; Aquaculture; Equestrian/Equine Studies; Floriculture or floristry operations and management; Food science; Forest sciences and biology; Forestry; Greenhouse operations and management; International agriculture; Natural resource economics; Natural resources management and policy; Natural resources or conservation; Ornamental horticulture; Plant nursery operations and management; Plant sciences; Range science and management; Soil sciences; Turf and turfgrass management; Urban forestry; and Wood science and wood products or pulp or paper technology.

(2) Removed Opt-in, Opt-out language for Hispanic Serving Agricultural Colleges and Universities (HSACU) and McIntire-Stennis Colleges and Universities.

(3) Required, within 90 days of enactment of the Agriculture Improvement Act of 2018, that NIFA establish a process of reviewing NLGCA designees to ensure compliance with the revised definition and to propose revocation of the designation where NLGCA's were found noncompliant.

Requesting NLGCA Designation

A flow chart describing the process for determining eligibility is available at https://nifa.usda.gov/program/capacity-building-grants-non-land-grant-colleges-agriculture-program. To determine programmatic fit in Areas of Study, NIFA will utilize the Department of Education's Classification of Instructional Programs (CIP) definitions as a guideline. These are available for reference at https://nces.ed.gov/ipeds/cipcode. You may request consideration of an additional Area of Study by the Secretary of Agriculture. The requirements for this are detailed on the web form mentioned below. A determination will be made within 90 days of submitting a request for the inclusion of a new Area of Study.

All interested institutions who meet the above criteria must apply for NLGCA certification. All institutions certified prior to December 21, 2018 must reapply for certification and meet the new criteria for NLGCA certification; Previous NLGCA certification is not a guarantee of continued certification.

To request that NIFA provide certification of NLGCA status, an Authorized Representative (AR) must go to http://www.nifa.usda.gov/form/form.html and submit a web-based form indicating the institution meets the qualifications. By submitting this request electronically, the AR certifies that they have the authority to make this request on behalf of their institution.

Receipt of NLGCA Designation

Requests for NLGCA designation are accepted on a rolling basis. Within 30 days of submission, NIFA will provide the administrative point of contact specified on the request, with a certification of NLGCA designation or a response indicating why the request for certification is being denied. Future Requests for Application issued by NIFA may require NLGCA certification.

Done at Washington, DC, on May 7, 2019.
Steve Censky,
Deputy Secretary, U.S. Department of Agriculture.

[FR Doc. 2019-10105 Filed 5-15-19; 8:45 am]

BILLING CODE 3410-22-P